POSTAL REGULATORY COMMISSION

Sunshine Act Meetings

AGENCY: Postal Regulatory Commission.

TIME AND DATE: Wednesday, August 29, 2007, at 2:30 p.m.

PLACE: Commission Conference Room, 901 New York Avenue, NW., Suite 200, Washington, DC 20268-0001.

STATUS: Open.

MATTERS TO BE CONSIDERED: Consideration of fiscal years 2008 and 2009 budgets; Selection of vice chairman.

FOR FURTHER INFORMATION CONTACT: Stephen L. Sharfman, General Counsel, at 202-789-6820.

Dated: August 24, 2007.
Steven W. Williams,
Secretary.

[FR Doc. 07-4254 Filed 8-24-07; 4:42 pm]

BILLING CODE 7710-FW-M